DEPARTMENT OF HEALTH AND HUMAN SERVICES

Administration for Children and Families

Proposed Information Collection Activity; Comment Request

Proposed Project: Collection of data on American Indian and Alaska Native needy families receiving temporary assistance from programs operated by American Indian and Alaska Native entities (Indian tribes).

Title: Tribal Temporary Assistance For Needy Families Program (Tribal TANF) Data Reporting Instructions and Requirements.

OMB No: 0970-0215.

Description: 42 U.S.C. 612 (section 412 of the Social Security Act—the Act—as amended by Pub. L. 104-193, the Personal Responsibility and Work Opportunity Reconciliation Act of 1996—PRWORA) mandates that Federally recognized Indian tribes with an approval tribal TANF program collect and submit to the Secretary of the Department of Health and Human Services (HHS) data on the recipients served by their programs. Instructions and requirements for submitting that data are the subject of this request for comments.

Respondents: Indian tribes that have an approved tribal TANF program.

Annual Burden Estimates
Instrument | Number of respondents | Number of responses per respondent | Average burden hours per response | Total burden hours
Tribal TANF Data reports | 56 | 24 | 50 | 67,200
Estimated Total Burden: | 67,200

In compliance with the requirements of section 3506(c)(2)(A) of the Paperwork Reduction Act of 1995, the Administration for Children and Families is soliciting public comment on the specific aspects of the information collection described above.

Copies of the proposed collection of information can be obtained and comments may be forwarded by writing to the Administration for Children and Families, Office of Administration, Office of Information Services, 370 L'Enfant Promenade, SW., Washington, DC 20447, Attn: ACF Reports Clearance Officer. All requests should be identified by the title of the information collection.

The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 10, 2003.
Robert Sargis,
Reports Clearance Officer.

[FR Doc. 03-3859 Filed 2-14-03; 8:45 am]

BILLING CODE 4184-01-M